DEPARTMENT OF COMMERCE

National Oceanic and Atmospheric Administration

[XRIN: 0648-XB21]

Gulf of Mexico Fishery Management Council; Public Meetings

AGENCY: National Marine Fisheries Service (NMFS), National Oceanic and Atmospheric Administration (NOAA), Commerce.

ACTION: Notice of Statistical Committee (SSC) meeting via conference call.

SUMMARY: The Gulf of Mexico Fishery Management Council (Council) will convene its SSC via conference call to discuss planning of an amendment.

DATES: The conference call will be held on July 26, 2007.

ADDRESSES: The meeting will be held via conference call and listening stations will be available. For specific locations, see SUPPLEMENTARY INFORMATION.

Council address: Gulf of Mexico Fishery Management Council, 2203 North Lois Avenue, Suite 1100, Tampa, FL 33607.

FOR FURTHER INFORMATION CONTACT: Mr. Wayne Swingle, Executive Director, Gulf of Mexico Fishery Management Council; telephone: (813) 348-1630.

SUPPLEMENTARY INFORMATION: The Council is preparing an amendment which will require reductions in the harvest of some grouper based on a recent assessment of gag grouper (SEDAR 10 Assessment and supplemental reviews). The SSC and the Special SSC will review certain aspects of that assessment and provide recommendations to the Council on the appropriate benchmark assessment to use to develop the regulations.

The Council is preparing an amendment which will require persons to obtain a permit from NMFS to participate in aquaculture by constructing an aquaculture facility in the exclusive economic zone (EEZ) of the Gulf of Mexico. Each application for a permit must comply with many permit conditions related to record keeping and operation of the facility. These permit conditions will assure the facility has a minimal affect on the environment and on other fishery resources. Compliance with the conditions will be evaluated annually for the duration of the permit as the basis for renewal of the permit for the next year.

The conference call will begin at 10 a.m. EDT and conclude no later than 12:30 p.m. EDT.

Listening stations are available at the following locations:

The Gulf Council office (see ADDRESSES), and the National Marine Fisheries Service (NMFS) offices as follows:

Galveston, TX

4700 Avenue U, Galveston, TX 77551, Contact: Rhonda O'Toole, (409) 766-3500;

St. Petersburg, FL

263 13th Avenue South, St. Petersburg, FL 33701, Contact: Joyce Mochrie, (727) 824-5301; and

Miami, FL

75 Virginia Beach Dr., Miami, FL 33149, Contact: Alex Chester, (305) 361-4259.

Copies of any related meeting materials can be obtained by calling the Council office at (813) 348-1630.

Special Accommodations

These meetings are physically accessible to people with disabilities. Requests for sign language interpretation or other auxiliary aids should be directed to Tina Trezza at the Council (see ADDRESSES) at least 5 working days prior to the meeting.

Dated: June 29, 2007.
Tracey L. Thompson,
Acting Director, Office of Sustainable Fisheries, National Marine Fisheries Service.

[FR Doc. E7-12963 Filed 7-3-07; 8:45 am]

BILLING CODE 3510-22-S